DEPARTMENT OF TRANSPORTATION

Federal Aviation Administration

RTCA, Inc.; Special Committee 159; Global Positioning System (GPS)

Pursuant to section 10(a)(2) of the Federal Advisory Committee Act (Pub. L. 92-463, 5 U.S.C., Appendix 2), notice is hereby given of a request from the Department of Transportation (DOT) for RTCA to develop appropriate material for DOT consideration in preparing its comments on an FCC Notice of Proposed Rule-Making (NPRM), “In the Matter of Revision of Part 15 of the Commission's Rules Regarding Ultra-Wideband Transmission Systems.”

In response to this request, RTCA's Program Management Committee has tasked Special Committee 159, Global Positioning System (GPS), to develop a response. Special Committee 159's recommended submission to DOT will be posted on the RTCA web site (www.rtca.org) on the Program Management Committee page by August 31, 2000. The Program Management Committee will review and approve this submission which will be forwarded to DOT on September 12, 2000.

Persons wishing to obtain information, or have questions/comments, should contact RTCA, Inc., Attn: Mr. Jerry Bryant, at (202) 833-9339 (phone), (202) 833-9424 (facsimile), or jbryant@rtca.org (e-mail).

Issued in Washington, DC on July 26, 2000.
Janice L. Peters,
Designated Official.

[FR Doc. 00-19531 Filed 8-1-00; 8:45 am]

BILLING CODE 4910-13-M